DEPARTMENT OF TRANSPORTATION

Federal Highway Administration

Environmental Impact Statement: Davis and Weber Counties, UT

AGENCY: Federal Highway Administration (FHWA), DOT.

ACTION: Notice of Intent.

SUMMARY: The FHWA is issuing this notice to advise the public that an Environmental Impact Statement (EIS) will be prepared for a proposed transportation improvement project in Davis and Weber Counties, Utah.

FOR FURTHER INFORMATION CONTACT: Ed Woolford, Environmental Program Manager or Paul Ziman, Area Manager, Federal Highway Administration, 2520 West 4700 South, Suite 9A, Salt Lake City, UT 84118, Telephone: (801) 963-0182, E-mail: Edward.Woolford@dot.gov or Paul.Ziman@dot.gov, respectively. The Utah Department of Transportation (UDOT) contact is Randy Jefferies, Project Manager, 166 Southwell Street, Ogden, UT 84404, Telephone: (801) 620-1690, E-mail: rjefferies@utah.gov.

SUPPLEMENTARY INFORMATION: The FHWA, in cooperation with UDOT, will prepare an EIS on a proposal to address projected transportation demand in western Davis and Weber Counties. Although the exact limits of the study area have not been defined, the transportation needs that will be evaluated in the proposal extend northward from about Parrish Lane (400 South) in Centerville in Davis County to about 1200 South in Marriott-Slaterville in Weber County. The eastern limits of the study area extend to I-15 and the western limit will be just east of the Great Salt Lake.

To provide for local and regional travel demands, the regional transportation plan developed by the local Metropolitan Planning Organization, Wasatch Front Regional Council (WFRC), has identified the need for an improved transportation system in the study area. Alternatives under consideration include (1) Taking no-action (no-build); (2) transportation system management/travel demand management; and (3) build alternatives. A multi-modal evaluation of transportation improvements in the corridor will be the focus of the study. Transportation build alternatives to be studied include, but are not limited to: (1) Collector roadway; (2) freeway; (3) arterial roadway; (4) transit; (5) combinations of any of the above; and (6) other feasible alternatives identified during the scoping process.

Letters describing the proposed action and soliciting comments will be sent to appropriate Federal, State, and local agencies, and to private organizations and citizens who have previously expressed or are known to have interest in this proposal. A series of public scoping meetings will be held in the study area from 4:30 p.m. to 8 p.m. as follows: February 23, 2010, at Syracuse High School, 665 South 2000 West, Syracuse, UT; February 24, 2010, at Davis County Legacy Events Center (Davis County Fairgrounds) at 151 South 1100 West, Farmington, UT; and, February 25, 2010, at West Weber Elementary School, 4178 West 900 South, Ogden, UT. Public notices announcing these meetings will be published in the region. Information regarding this meeting and the project may also be obtained through a public Web site, http://www.udot.utah.gov/westdavis. In addition to the public scoping meetings, public hearings will be held after the draft EIS has been prepared. The draft EIS will be available for public and agency review and comment before the public hearing.

To ensure that a full range of issues related to the proposed action are addressed and all significant issues identified, comments and suggestions are invited from all interested parties. Comments or questions concerning the proposed action and the EIS should be directed to the FHWA at the address provided above by March 22, 2010.

(Catalog of Federal and Domestic Assistance Program Number 20.205, Highway Research, Planning and Construction. The regulations implementing Executive Order 12372 regarding intergovernmental consultation on Federal programs and activities apply to this program.)

Issued on: January 14, 2010.
James Christian,
Division Administrator, Federal Highway Administration, Salt Lake City, Utah.

[FR Doc. 2010-1293 Filed 1-22-10; 8:45 am]

BILLING CODE 4910-22-P